DEPARTMENT OF HOMELAND SECURITY

Transportation Security Administration

New Agency Information Collection Activity Under OMB Review: Travel Request and Expense Report Form for TSA Contractors

AGENCY: Transportation Security Administration, DHS.

ACTION: 30-day Notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on December 6, 2016, 81 FR 87947. The collection involves the submission of basic identifying and travel information for a contractor intending to conduct travel determined to be a reimbursable expense under a TSA contract.

DATES: Send your comments by April 20, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Travel Request and Expense Report Form for TSA Contractors.

Type of Request: New collection.

OMB Control Number: Not yet assigned.

Form(s): TSA Form 308.

Affected Public: TSA Contractors.

Abstract: Pursuant to the Federal Travel Regulation (FTR), TSA has authority to implement statutory requirements and policies for travel by Federal civilian employees and others authorized to travel at government expense. See FTR, 41 CFR chapter 300. See also 5 U.S.C. 5707 (Travel, Transportation, and Subsistence).¹ Consistent with this authority, TSA created the Contractor Travel Request and Expense Report form. The form allows a TSA Contracting Officer Representative to preauthorize reimbursable travel for a contractor intending to conduct travel determined to be a reimbursable expense under the contract. Additionally, the form allows for post-travel verification of the invoiced-amount with the preauthorized costs. The data collected on the form includes basic identifying information for the individual traveling, such as full name of the traveler, travel date(s) and location(s), departure information, justification for travel, all costs associated with the travel, name and contract number for the vendor and signature of the requesting vendor. The data will be collected as necessary when travel-related expenses under a contract meet the stipulated requirements for reimbursable-travel.

¹ Visit www.gsa.gov/federaltravelregulation for text and other information regarding the FTR. Under the FTR, a Federal traveler is a person who travels on a Government aircraft and who is either (1) a civilian employee in the Government service; (2) a member of the uniformed or foreign services of the United States Government; or (3) a contractor working under a contract with an executive agency. See 41 CFR 300-3.1.

Number of Respondents: 450.

Estimated Annual Burden Hours: An estimated 150 hours annually.

Dated: March 15, 2017.
Christina A. Walsh,
TSA Paperwork Reduction Act Officer, Office of Information Technology.

[FR Doc. 2017-05540 Filed 3-20-17; 8:45 am]

BILLING CODE 9110-05-P